DEPARTMENT OF HEALTH AND HUMAN SERVICES

Administration for Children and Families

Submission for OMB Review; Comment Request

Title: 45 CFR 303.7—Provision of Services in Intergovernmental IV-D; Federally Approved Forms.

OMB No.: 0970-0085.

Description: The Intergovernmental forms were initially approved by OMB in 1988; 45 CFR 303.7 requires child support programs to use the OMB federally-approved forms in intergovernmental IV-D cases unless a country has provided alternative forms as a part of its chapter in a Caseworker's Guide to Processing Cases with Foreign Reciprocating Countries. Additionally Public Law 104-193, the Personal Responsibility and Work Opportunity Reconciliation Act of 1996, amended 42 U.S.C. 666 to require State Child Support Enforcement (CSE) agencies to enact the Uniform Interstate Family Support Act (UIFSA) into State law by January 1, 1998. Section 311(b) of UIFSA requires the States to use forms mandated by Federal law.

Based on the comments we received in response to the 60-day notice in the Federal Register (Volume 78, Number 126, page 39298), we have determined we need to address several issues, particularly relating to the protection of Personal Identifiable Information (PII), and may need to restructure the intergovernmental forms. Because multiple changes to the forms may impact state and federal procedures and systems, we need to thoroughly analyze the options for revising the forms, and provide states and the public the opportunity to comment on any changes and associated burden.

Therefore, at this time, we are requesting an extension of the current forms without any changes. Once we complete the analysis of the issues raised in response to the recent 60 day notice, we will propose changes to the forms and associated burden and request a new round of comments under the Paperwork Reduction Act. The changes will be based on the state's needs and the best interest of the program.

Respondents: State, local, or Tribal agencies administering a child support enforcement program under title IV-D of the Social Security Act.

Annual Burden Estimates
Instrument | Number of respondents | Number of responses per respondent | Average burden hours per response | Total burden hours
Transmittal 1 | 54 | 19,392 | 0.25 | 261,790.25
Transmittal 2 | 54 | 14,544 | 0.08 | 62,829.66
Transmittal 3 | 54 | 970 | 0.08 | 4,188.64
Uniform Petition | 54 | 11,635 | 0.08 | 50,263.73
General Testimony | 54 | 11,635 | 0.33 | 207,337.88
Affidavit Paternity | 54 | 5,818 | 0.17 | 53,405.21
Locate Data Sheet | 54 | 388 | 0.08 | 1,675.46
Notice of Controlling Order | 54 | 388 | 0.08 | 1,675.46
Registration Statement | 54 | 7,757 | 0.08 | 33,509.15
Estimated Total Annual Burden Hours |  |  |  | 676,683.20

Additional Information

Copies of the proposed collection may be obtained by writing to the Administration for Children and Families, Office of Planning, Research and Evaluation, 370 L'Enfant Promenade SW., Washington, DC 20447, Attn: ACF Reports Clearance Officer. All requests should be identified by the title of the information collection. Email address: infocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-7285, Email: OIRA_SUBMISSION@OMB.EOP.GOV, Attn: Desk Officer for the Administration for Children and Families.

Robert Sargis
Reports Clearance Officer.

[FR Doc. 2013-28448 Filed 11-26-13; 8:45 am]

BILLING CODE 4184-01-P